DEPARTMENT OF HOUSING AND URBAN DEVELOPMENT

[Docket No. FR-5480-N-45]

Notice of Submission of Proposed Information Collection to OMB; Emergency Comment Request Capacity Building for Sustainable Communities

AGENCY: Office of Sustainable Housing and Communities, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: May 31, 2011.

ADDRESSES: Interested persons are invited to submit comments regarding this proposal. Comments must be received within seven (7) days from the date of this Notice. Comments should refer to the proposal by name/or OMB approval number and should be sent to: HUD Desk Officer, Office of Management and Budget, New Executive Office Building, Washington, DC 20503; e-mail: OIRA_Submission @omb.eop.gov; fax: (202) 395-5806.

FOR FURTHER INFORMATION CONTACT: Colette Pollard, Reports Management Officer, QDAM, Department of Housing and Urban Development, 451 Seventh Street, SW., Washington, DC 20410; e-mail: Colette.Pollard@hud.gov; telephone (202) 402-3400. This is not a toll-free number. Copies of available documents submitted to OMB may be obtained from Mr. McKinney.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Capacity Building for Sustainable Communities Program.

Description of Information Collection: On December 16, 2009, the President signed the Consolidated Appropriations Act. 2010 (Pub. L. 111-117), which provided a total of $150 million in fiscal year 2010 to HUD for a Sustainable Communities Initiative to improve regional planning efforts that integrate housing and transportation decisions, and increase the capacity to improve land use and and zoning. Of that total $2 million was reserved in FY 2010, and up to $3 million will be reserved in FY 2011, if available, to build the capacity of metropolitan and multijurisdictional planning efforts that support community involvement and integrate housing, land use, land cleanup and preparation for reuse, economic and workforce development, transportation, and infrastructure investment. Up to $700,000 may be available from the EPA as authorized in the Clean Air Act Section 103(b)(2), Clean Water Act Section 104(b)(2), and CERCLA Section 104(k)(6), subject to Congress appropriating FY 2011 Funding.

OMB Control Number: 2501-Pending.

Agency Form Numbers:

(a) Form SF-424—Application for Federal Assistance.

(b) SF-424—Supplement Survey on Equal Opportunity for Applicants (“Faith Based EEO Survey (SF-424-SUPP)” on Grants.gov) (optional submission).

(c) HUD-424—CBW, HUD Detailed Budget Worksheet, (Included Total Budget Federal Share and Matching) and Budget Justification Narrative.

(d) Form HUD-2880—Applicant/Recipient Disclosure/Update Report (“HUD Applicant Recipient Disclosure Report” on Grants.gov).

(e) Form SF-LLL—Disclosure of Lobbying Activities (if applicable).

(f) Form HUD-96011—Third Party Documentation Facsimile Transmittal (“Facsimile Transmittal Form” on Grants.gov) (Used as the cover page to transmit third party documents and other information designed for each specific application for tracking purposes. HUD will not read faxes that do not use the HUD-96011 as the cover page to the fax.)

Members of Affected Public: State, Local Government and Non-profit organization.

Estimation of the total numbers of hours needed to prepare the information collection including number of respondents, frequency of responses, and hours of responses: The estimated number of respondents during the pre-application process is 600 and the number of responses is 100. The estimated number of respondents during the application process is 0.166 and the number of responses is 6. The total reporting burden is 100 hours.

Status of the proposed information collection: New Emergency collection.

Authority: The Paperwork Reduction Act of 1995, 44 U.S.C. Chapter 35, as amended.

Dated: May 17, 2011.
Colette Pollard,
Departmental Reports Management Officer, Office of the Chief Information Officer.

[FR Doc. 2011-12646 Filed 5-20-11; 8:45 am]

BILLING CODE 4210-67-P